DEPARTMENT OF HOMELAND SECURITY

8 CFR Parts 103 and 235

[Docket No. USCBP-2020-0035]

RIN 1651-AB34

Harmonization of the Fees and Application Procedures for the Global Entry and SENTRI Programs and Other Changes

AGENCY: U.S. Customs and Border Protection, Department of Homeland Security.

ACTION: Notice of proposed rulemaking; correction; re-opening of comment period.

SUMMARY: U.S. Customs and Border Protection (CBP) published a notice of proposed rulemaking (NPRM) in the Federal Register of September 9, 2020, concerning harmonization of the fees for the Global Entry and SENTRI trusted traveler programs as well as other changes to those programs. An incorrect Regulation Identifier Number (RIN) was inadvertently listed in the heading of that document. This document corrects the September 9, 2020 document to reflect that the correct RIN is 1651-AB34 as set forth above. Additionally, CBP included a summary of the CBP Trusted Traveler Programs Fee Study (Fee Study) in the NPRM and stated that the full Fee Study was included in the docket of the rulemaking. CBP inadvertently failed to post the Fee Study on the docket when the NPRM was published. Therefore, CBP is notifying the public that the Fee Study has now been posted in the docket and that CBP is re-opening the comment period and requesting comments on the stand-alone Fee Study.

DATES: Comments must be received on or before December 31, 2020.

FOR FURTHER INFORMATION CONTACT: Charity McKenzie Shick, Regulations and Rulings, Office of International Trade, charity.m.shick@cbp.dhs.gov.

ADDRESSES: Comments may be submitted, identified by docket number USCBP-2020-0035, by the following method:

Federal eRulemaking Portal: http://www.regulations.gov. Follow the instructions for submitting comments.

Due to COVID-19-related restrictions, CBP has temporarily suspended its ability to receive public comments by mail.

Instructions: All submissions received must include the agency name and docket title for this rulemaking, and must reference docket number USCBP-2020-0035. All comments received will be posted without change to http://www.regulations.gov, including any personal information provided. For detailed instructions on submitting comments and additional information on the rulemaking process, see the “Public Participation” heading of the SUPPLEMENTARY INFORMATION section of this document.

Docket: For access to the docket to read background documents or comments received, go to: https://www.regulations.gov. Due to relevant COVID-19-related restrictions, CBP has temporarily suspended its on-site public inspection of submitted comments.

SUPPLEMENTARY INFORMATION:

Public Participation

Interested persons are invited to participate in this rulemaking by submitting written data, views, or arguments on the Fee Study. Only comments on the Fee Study will be considered. Comments that will provide the most assistance to CBP will reference a specific portion of the Fee Study, explain the reason for any recommended change, and include data, information, or authority that support such recommended change.

Background

CBP operates several voluntary trusted traveler programs at land, sea and air ports of entry into the United States that allow certain pre-approved travelers dedicated processing into the United States, including the Secure Electronic Network for Travelers Rapid Inspection (SENTRI) program, the Global Entry program, and the NEXUS program. As part of an effort to harmonize the fees and application procedures for these programs, CBP published a notice of proposed rulemaking (NPRM) titled “Harmonization of the Fees and Application Procedures for the Global Entry and SENTRI Programs and Other Changes” in the Federal Register (85 FR 55597) on September 9, 2020. The NPRM proposes to change the Global Entry and SENTRI application fees to a uniform amount, provide a uniform standard regarding the payment of the Global Entry and SENTRI application fees for minors, change the fee payment schedule and certain aspects of the application process for the SENTRI program, and incorporate the SENTRI program into the Department of Homeland Security (DHS) regulations. CBP will be issuing a separate Federal Register notice regarding changes to the NEXUS fee.

Fee Study

As part of the development of the NPRM, CBP performed a fee study entitled CBP Trusted Traveler Programs Fee Study (Fee Study) to determine the amount of the fee that is necessary to recover the costs associated with application processing for the Global Entry, SENTRI, and NEXUS programs. In the NPRM and Fee Study, CBP concluded that a uniform $120 fee is appropriate and necessary to recover a reasonable portion of costs associated with application processing for these three CBP trusted traveler programs. The NPRM summarizes the Fee Study, seeks comments on its conclusion, and states that the full Fee Study can be found in the docket of the rulemaking. However, CBP inadvertently failed to post the Fee Study to the docket at the time the NPRM was published. CBP has now posted the Fee Study to the docket at https://www.regulations.gov under docket number USCBP-2020-0035 and is re-opening the comment period to allow for comments to be submitted on that Fee Study. Comments must be received on or before December 31, 2020. CBP will not accept comments on any topic other than the Fee Study.

Correction of RIN

In the NPRM document, FR Doc. 2020-16369, beginning on page 55597 in the issue of September 9, 2020 (85 FR 55597), make the following correction in the first column:

Remove in the heading of the document “RIN 1651-AB94” and add in its place “RIN 1651-AB34.”

Alice A. Kipel,
Executive Director, Regulations and Rulings Office of Trade, U.S. Customs and Border Protection.

[FR Doc. 2020-26275 Filed 11-30-20; 8:45 am]

BILLING CODE 9111-14-P